DEPARTMENT OF COMMERCE

International Trade Administration

[A-201-805]

Circular Welded Non-Alloy Steel Pipe from Mexico: Rescission of Antidumping Duty Administrative Review

AGENCY: Import Administration, International Trade Administration, Department of Commerce.

ACTION: Notice of Rescission of Antidumping Duty Administrative Review.

SUMMARY: On December 19, 2001, in response to a request made by Hysla, S.A. de C.V. (“Hylsa”), the Department of Commerce (“the Department”) published in the Federal Register (66 FR 65470) a notice announcing the initiation of an administrative review of the antidumping duty order on circular welded non-alloy steel pipe from Mexico. The review period is November 1, 2000 to October 31, 2001. This review has now been rescinded because Hylsa has withdrawn its request for review.

EFFECTIVE DATE: March 20, 2002.

FOR FURTHER INFORMATION CONTACT: John Drury, Enforcement Group III, Office 8, Import Administration, International Trade Administration, U.S. Department of Commerce, 14th Street and Constitution Avenue, N.W., Room 7866, Washington, D.C. 20230; telephone (202) 482-0195.

SUPPLEMENTARY INFORMATION:

The Applicable Statute

Unless otherwise indicated, all citations to the Tariff Act of 1930, as amended (the Act) are references to the provisions effective January 1, 1995, the effective date of the amendments made to the Act by the Uruguay Round Agreements Act (URAA). In addition, unless otherwise indicated, all citations to the Department's regulations are references to the provisions codified at 19 CFR Part 351 (2001).

Scope of the Review

The products covered by these orders are circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of these orders, except line pipe, oil country tubular goods, boiler tubing, mechanical tubing, pipe and tube hollows for redraws, finished scaffolding, and finished conduit. Standard pipe that is dual or triple certified/stenciled that enters the United States as line pipe of a kind used for oil or gas pipelines is also not included in these orders.

Imports of the products covered by this order are currently classifiable under the following Harmonized Tariff Schedule (HTS) subheadings: 7306.30.10.00, 7306.30.50.25, 7306.30.50.32, 7306.30.50.40, 7306.30.50.55, 7306.30.50.85, and 7306.30.50.90. Although the HTS subheadings are provided for convenience and customs purposes, our written description of the scope of these proceedings is dispositive.

Background

On November 30, 2001, Hylsa (a producer and exporter of subject merchandise) requested an administrative review of the antidumping duty order on circular welded non-alloy steel pipe from Mexico published in the Federal Register on November 2, 1992 (57 FR 49453). On December 17, 2001, hylsa withdrew its request for review. On December 19, 2001, the Department published in the Federal Register (66 FR 65470) a notice of “Initiation of Antidumping and Countervailing Duty Administrative Reviews” initiating the administrative review. The applicable regulation, 19 CFR 351.213(d)(1), states that if a party that requested an administrative review withdraws the request within 90 days of the publication of the notice of initiation of the requested review, the Secretary will rescind the review. Given that Hylsa was the only party to request the administrative review, and the withdrawal request is timely, we find it reasonable to accept the withdrawal request. Therefore, we are rescinding this review of the antidumping duty order on circular welded non-alloy steel pipe from Mexico covering the period November 1, 2000 through October 31, 2001.

This notice is issued and published in accordance with section 777(i) of the Act and 19 CFR 351.213(d)(4).

Dated: March 5, 2002.
Joseph A. Spetrini,
Deputy Assistant Secretary for Import Administration, Group III.

[FR Doc. 02-6741 Filed 3-19-02; 8:45 am]

BILLING CODE 3510-DS-S